ENVIRONMENTAL PROTECTION AGENCY

[OAR-2004-0051; FRL-7662-6]

Agency Information Collection Activities: Proposed Collection; Comment Request; Recordkeeping and Reporting Requirements for Diesel Fuel Sold in 2001 and Later Years and for Tax-Exempt (Dyed) Diesel Fuel, EPA ICR Number 1718.06, OMB Control Number 2060-0308

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew two existing and related ICRs and combine them into one ICR renewal. These ICRs are scheduled to expire on September 30, 2004. Before submitting the ICR to OMB for review and approval, EPA is soliciting comments on specific aspects of the proposed information collection as described below.

DATES: Comments must be submitted on or before July 16, 2004.

ADDRESSES: Submit your comments, referencing docket ID number OAR-2004-0051, to EPA online using EDOCKET (our preferred method), by e-mail to a-and-r-Docket@epa.gov, or by mail to: EPA Docket Center, Environmental Protection Agency, 1200 Pennsylvania Ave., NW., Mail Code: 6102T, Washington, DC 20460. Instructions for using EDOCKET are contained in the section entitled SUPPLEMENTARY INFORMATION, below.

FOR FURTHER INFORMATION CONTACT: Anne Pastorkovich, Attorney/Advisor, Transportation and Regional Programs Division, Office of Transportation and Air Quality, telephone number: (202) 343-9623, fax number: (202) 343-2801, e-mail address: pastorkovich.anne-marie@epa.gov.

SUPPLEMENTARY INFORMATION: EPA has established a public docket for this ICR under Docket ID number OAR-2004-0051, which is available for public viewing at the Air Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air Docket is (202) 566-1741. An electronic version of the public docket is available through EPA Dockets (EDOCKET) at http://www.epa.gov/edocket. Use EDOCKET to obtain a copy of the draft information collection, submit or view public comments, access the index listing of the contents of the public docket, and to access those documents in the public docket that are available electronically. Once in the system, select “search,” then key in the docket ID number identified above.

Any comments related to this ICR should be submitted to EPA within 60 days of this notice. EPA's policy is that public comments, whether submitted electronically or on paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are refiners, importers, pipelines, petroleum marketers and other distributors of diesel fuel, terminal, fuel oil dealers, fuel additive manufacturers, and petroleum retailers and wholesale purchaser-consumers.

Title: Recordkeeping and Reporting Requirements for the Fuel Quality Regulations for Diesel Fuel Sold in 2001 and Later Years; and for Tax-Exempt (Dyed) Diesel Fuel.

Abstract: This renewal includes recordkeeping and reporting under two existing and related ICRs that will expire on September 30, 2004. These are the fuel quality regulations for diesel fuel sold in 2001 and later years (covered by current EPA ICR No. 1718.04) and the recordkeeping and reporting requirements related to tax-exempt (dyed) diesel fuel (covered by current EPA ICR No. 1718.03). These are described in summary in the following paragraphs and in detail in the draft Supporting Statement, which has been placed in the public docket.

Summary of Recordkeeping and Reporting Related to the Fuel Quality Regulations for Diesel Fuel Sold in 2001 and Later Years

The pollution emitted by diesel engines contributes greatly to our nation's continuing air quality problems. On January 18, 2001, EPA published a final rule that would establish standards for heavy-duty engines and vehicles and for highway diesel sulfur control. New emissions standards for these engines and vehicles will apply starting with model year 2007. Since the new technology developed will require low sulfur diesel fuel (15 parts per million sulfur or less), the regulations require the availability of this fuel starting by no later than 2006, with all highway diesel fuel required to meet the 15 parts per million standard by 2010.¹

¹ See “Control of Air Pollution from New Motor Vehicles: Heavy-Duty Engine and Vehicle Standards and Highway Diesel Fuel Sulfur Control Requirements,” 66 FR 5002 (January 18, 2001).

The information under this ICR will be collected by EPA's Transportation and Regional Programs Division, Office of Transportation and Air Quality, Office of Air and Radiation (OAR), and by EPA's Air Enforcement Division, Office of Regulatory Enforcement, Office of Enforcement and Compliance Assurance (OECA). The information collected will be used by EPA to evaluate compliance with diesel sulfur control requirements under the diesel rule. This oversight by EPA is necessary to ensure attainment of the air quality goals of the diesel program.

The scope of the recordkeeping and reporting requirements for each type of party (and therefore the cost to that party), reflects the party's opportunity to create, control or alter the sulfur content of diesel fuel. As a result, refiners and importers will generally have more requirements than parties downstream from the diesel production or import point. Refiners and importers are required to register with EPA and to submit annual pre-compliance reports on June 1st of 2003, 2004, and 2005. Those refiners and importers who generate credits must submit credit-related annual reports starting in 2006 or the first year credits are generated (whichever is earlier). All refiners and importers must submit annual reports including compliance information for 2006 through 2010. EPA has made every effort to minimize registration and reporting burdens and to ensure that parties do not have to submit duplicate information. For example, refiners and importers who have already registered with EPA for compliance with other fuels programs are not required to re-register for this program.

Parties are required to generate and retain product transfer documents, which are documents normally and customarily generated in the course of business. These product transfer documents typically use simplified, software-generated product codes. Product transfer documents must be retained for five years.

Regulated parties are required to retain records of any quality assurance testing they may perform on diesel fuel and such records would be normally and customarily retained in the course of business.

A party may apply for relief from regulatory requirements under extreme and unforseen circumstances (e.g. a refinery fire or flood) or may apply for an exemption to conduct research and development activities. We expect few applications under these provisions. We have made every effort to ensure that the application process is simple and requires only necessary information to make a decision as to whether to grant or deny a request.

Summary of Recordkeeping and Reporting Related to the Dyeing of Tax-Exempt Diesel Fuel

Diesel fuel not intended for use in motor vehicles (off-road diesel fuel) is required to be dyed red in order to distinguish it from motor vehicle diesel fuel. The Internal Revenue Service requires that tax-exempt motor vehicle diesel fuel also be dyed red. To distinguish off-road diesel fuel from tax-exempt motor vehicle diesel fuel, parties in the fuel distribution system must refer to the product transfer document. Product transfer documents are normally and customarily generated in the course of business and typically use simplified, software generated codes. Product transfer documents must be retained for five years.²

² See 40 CFR 80.29(c).

An agency may not conduct or sponsor, and a person is not required to respond to, a collection of information unless it displays a currently valid OMB control number. The OMB control numbers for EPA's regulations in 40 CFR are listed in 40 CFR part 9.

The EPA would like to solicit comments to:

(i) evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: It is estimated that there will be 420,685 reports, 39,575 burden hours, and total annual costs (labor, overhead and maintenance, and purchased services) of $7,522,375. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. The estimated burden in explained in detail on pages 22-30 of the draft Supporting Statement, which has been placed in docket OAR-2004-0051 and which is available via the EDOCKET and at the address listed in the ADDRESSES section, above. Other helpful information, including the final Supporting Statements for the expiring ICR Nos. 1718.03 and 1718.04, have also been placed in the docket in order to assist the public in commenting on this renewal.

Dated: May 3, 2004.
Suzanne Rudzinski,
Director, Transportation and Regional Programs Division, Office of Transportation and Air Quality.

[FR Doc. 04-11117 Filed 5-14-04; 8:45 am]

BILLING CODE 6560-50-P